DEPARTMENT OF TRANSPORTATION

Office of the Secretary

[Docket No. DOT-OST-2011-0188]

Senior Executive Service Performance Review Boards Membership

AGENCY: Office of the Secretary, Department of Transportation (DOT).

ACTION: Notice of Performance Review Board (PRB) appointments.

.

SUMMARY: DOT publishes the names of the persons selected to serve on the various Departmental PRBs as required by 5 U.S.C. 4314(c)(4).

FOR FURTHER INFORMATION CONTACT: Nancy A. Mowry, Director, Departmental Office of Human Resource Management, (202) 366-4088.

SUPPLEMENTARY INFORMATION: The persons named below have been selected to serve on one or more Departmental PRBs.

Issued in Washington, DC, on October 7, 2011.
Brodi L. Fontenot,
Deputy Assistant Secretary for Administration.

DEPARTMENT OF TRANSPORTATION

Federal Highway Administration

Alicandri, Elizabeth

Arnold, Robert E.

Baxter, John R.

Brecht-Clark, Jan

Brown, Janice W.

Cheatham, James A.

Conner, Clara H.

Curtis, Joyce A.

Elston, Debra S.

Evans, Monique

Furst, Anthony T.

Gee, King W.

Gibbs, David C.

Griffith, Michael S.

Holian, Thomas P.

Kehrli, Mark

Knopp, Martin C.

Konove, Elissa K.

Liff, Diane R.

Lindley, Jeffrey A.

Lucero, Amy C.

Lwin, Maung Myint

Marchese, April Lynn

McElroy, Regina S.

Nadeau, Gregory

Nicol, David A.

Pagan-Ortiz, Jorge

Paniati, Jeffrey F.

Peters, Joseph I.

Prosperi, Patricia A.

Ridenour, Melisa Lee

Row, Shelley J.

Saunders, Ian C.

Shepherd, Gloria Morgan

Solomon, Gerald L.

St. Denis, Catherine

Stephanos, Peter J.

Suarez, Ricardo

Tischer, Mary Lynn

Toole, Patricia Ann

Trentacoste, Michael F.

Waidelich, Jr., Walter C.

Winter, David R.

Wlaschin, Julius

Federal Motor Carrier Administration

Amos, Anna J.

Bronrott, William

Griffin, Alais

Horan III, Charles

Leone, Geraldine K.

Minor, Larry W.

Pelcovits, Pamela

Quade III, William A.

Van Steenburg, John W.

Federal Railroad Administration

Coronel, Kim

Haley, Michael T.

Hedlund, Karen

Lauby, Robert

Logue, Michael

Nissenbaum, Paul

Rae, Karen J.

Strang, Jo E.

Yachmetz, Mark E.

Federal Transit Administration

Biehl, Scott A.

Carter, Dorval

Hynes-Cherin, Brigid

Linnertz, Ann M.

McMillan, Therese

Patrick, Robert C.

Rogers, Leslie T.

Simon, Marisol

Taylor, Yvette

Tuccillo, Robert

Valdes, Vincent

Welbes, Matthew

Maritime Administration

Bohnert, Roger

Brohl, Helen

Byrne, Joseph Andrew

Caponiti, James

Kumar, Sashi

Lesnick, H. Keith

McMahon, Christopher J.

Pixa, Rand

Tokarski, Kevin

Weaver, Janice G.

National Highway Traffic Safety Administration

Abraham, Julie

Beuse, Nathaniel

Brown, Michael

Carra, Joseph

Coggins, Colleen P.

Donaldson, K. John

Geraci, Michael

Guerci, Lloyd S.

Gunnels, Mary

Harris, Claude

Maddox, John M.

McLaughlin, Brian M.

McLaughlin, Susan

Medford, Ronald L.

Michael, Jeffrey P.

Pennington, Rebecca

Saul, Roger

Shelton, Terry

Simons, James F.

Smith, Daniel C.

Vincent, Kevin

Walter, Gregory A.

Wood, Stephen

Office of the Secretary

DeBoer, Joan

DeCarme, David G.

Eisner, Neil

Fields, George

Fontenot, Brodi

Forsgren, Janet

Geier, Paul

Gretch, Paul L.

Hazeur, Camille

Herlihy, Thomas W.

Homan, Todd

Horn, Donald

Hurdle, Lana

Jackson, Ronald

Jones, Mary N.

Jones, Maureen A.

Kaleta, Judith

Knapp, Rosalind

Lawson, Linda

Lee, Robert

Lefevre, Maria

Leusch Carnaroli, Herbert

Lowder, Michael W.

McDermott, Susan

Mowry, Nancy A.

Neal, Brandon

Osborne, Elizabeth

Petrosino-Woolverton, Marie

Podberesky, Samuel

Pradhan, Nitin

Rivait, David

Schmidt, Robert T.

Smith, Willie

Streitmatter, Marlise

Szabat, Joel M.

Thomson, Kathryn B.

Washington, Keith

Wells, John

Ziff, Laura

Zuckman, Jill

Pipeline and Hazardous Materials Safety Administration

Daugherty, Linda

El-Sibaie, Magdy A.

Mayberry, Alan

Summitt, Monica J.

Wiese, Jeffrey D.

Research and Innovative Technology Administration

Aylward, Anne

Dillingham, Steven

Johns, Robert

Russo, Anthony

Smith, Steven K.

Tompkins, Curtis

Winfree, Gregory

Saint Lawrence Seaway Development Corporation

Middlebrook, Craig H.

Pisani, Salvatore L.

[FR Doc. 2011-26586 Filed 10-13-11; 8:45 am]

BILLING CODE 4910-9X-P